DEPARTMENT OF DEFENSE

Office of the Secretary

[Requisition Number: OSD-4-00001]

Membership of the Performance Review Board

AGENCY: Office of the Secretary of Defense (OSD), Department of Defense (DoD).

ACTION: Notice of board membership.

SUMMARY: This notice announces the appointment of the DoD, OSD, Joint Staff, Defense Agencies, and DoD Field Activities, Performance Review Board (PRB) members, to include the U.S. Court of Appeals for the Armed Forces. The PRB shall provide fair and impartial review of Senior Executive Service and Senior Professional performance appraisals and make recommendations regarding performance ratings and performance awards to the Deputy Secretary of Defense.

DATES: The board membership is applicable beginning on October 12, 2023.

FOR FURTHER INFORMATION CONTACT: Ms. Laura E. Devlin Dominguez, Assistant Director for Office of the Secretary of Defense Senior Executive Management Office, Washington Headquarters Service, Department of Defense, (703) 693-8373.

SUPPLEMENTARY INFORMATION: The publication of PRB membership is required by 5 U.S.C. 4314(c)(4). In accordance with 5 U.S.C. 4314(c)(4), the following executives are appointed to the OSD PRB with specific PRB panel assignments being made from this group. Executives listed will serve a one-year renewable term, beginning October 12, 2023.

Office of the Secretary of Defense

Appointing Authority—Dr. Kathleen H. Hicks, Deputy Secretary of Defense

Principal Executive Representative—Ms. Jennifer C. Walsh

Chairperson—Mr. Kevin M. Mulvihill

PRB Panel Members

Steven L. Schleien

Serena Chan

Juanita M. Christensen

Christine M. Condon

Daniel J. Hester

Ashley B. Manning

Robert P. Helfant

Stuart A. Whitehead

Lily M. Zeleke

Rosalie Tinsley

Madeline L. Mortelmans

Stanley E. Thomas

John M. Tenaglia

Pamela M. Franceschi

Raju H. Shah

Jennifer J. Balisle

Vernita D. Harris

Andrew T. Walter

Kirstin H. Riesbeck

Paul D. Mann

Silvana Rubino-Hallman

Brent C. Harvey

Debbra M. Caw

Leigh E. Method

Jennifer L. Desautel

Sonya I. Ebright

Leonard G. Litton

PRB Panel Members—Alternates

Austin Long

Karyn A. Runstrom

Cherry L. Wilcoxon

Robin L. Farley

John E. Kreul

Kenneth B. Handelman

Christopher S. Argo

Christopher A. Paczkowski

Raymond D. O'Toole, Jr.

Dated: November 14, 2023.
Aaron T. Siegel,
Alternate OSD Federal Register Liaison Officer, Department of Defense.

[FR Doc. 2023-25552 Filed 11-17-23; 8:45 am]

BILLING CODE 6001-FR-P